DEPARTMENT OF DEFENSE

Office of the Secretary

Submission for OMB Review; Comment Request

ACTION: Notice.

The Department of Defense has submitted to OMB for clearance, the following proposal for collection of information under the provisions of the Paperwork Reduction Act (44 U.S.C. Chapter 35). The Office of Management and Budget has approved this information collection requirement for use through October 31, 2001.

DATES: Consideration will be given to all comments received by Nobember 8, 2001.

Title, Form Number, and OMB Number: Request for Reference; DD Form 370; OMB Number 0704-0167.

Type of Request: Extension.

Number of Respondents: 43,000.

Responses Per Respondent: 1.

Annual Responses: 43,000.

Average Burden Per Response: 10 minutes.

Annual Burden Hours: 7,167.

Needs and Uses: Sections 504, 505, 508, and 12102 Title 10 U.S.C., establish minimum standards for enlistment into the Armed Forces. This information collection is for reference information on individuals applying for enlistment in the Armed Forces of the United States who require a waiver. The form associated with this information collection, DD Form 370, Request for Reference, is used by recruiters to obtain reference information on applicants who have admitted committing a civil or moral offense. The respondents may provide character information which would allow the applicant to be considered for a waiver in order to continue the application process.

Affected Public: Individuals or Households; Business or Other For-Profit; Federal Government; State, Local or Tribal Government.

Frequency: On Occasion.

Respondent's Obligation: Voluntary.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: October 2, 2001.
Patricia L. Toppings,
Alternate OSD Federal Register Liaison Officer, Department of Defense.

[FR Doc. 01-25122 Filed 10-5-01; 8:45 am]

BILLING CODE 5001-08-M